FEDERAL EMERGENCY MANAGEMENT AGENCY

[FEMA-3155-EM]

New York; Amendment No. 2 to Notice of an Emergency Declaration

AGENCY: Federal Emergency Management Agency (FEMA).

ACTION: Notice.

SUMMARY: This notice amends the notice of an emergency declaration for the State of New York, (FEMA-3155-EM), dated October 11, 2000, and related determinations.

EFFECTIVE DATE: December 27, 2000.

FOR FURTHER INFORMATION CONTACT: Madge Dale, Response and Recovery Directorate, Federal Emergency Management Agency, Washington, DC 20472, (202) 646-3772.

SUPPLEMENTARY INFORMATION: The notice of an emergency for the State of New York is hereby amended to include the following areas among those areas determined to have been adversely affected by the catastrophe declared an emergency by the President in his declaration of October 11, 2000: The counties of Bronx, Chautauqua, Chenango, Clinton, Columbia, Jefferson, Kings, Livingston, Madison, Ontario, Orleans, Oswego, Queens, Richmond, Tompkins, Wayne, and Wyoming for emergency protective measures (Category B) at 75 percent Federal funding for eligible expenses. This assistance excludes regular time costs for subgrantees regular employees.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)
Lacy E. Suiter,
Executive Associate Director, Response and Recovery Directorate.

[FR Doc. 01-1031 Filed 1-11-01; 8:45 am]

BILLING CODE 6718-02-P